DEPARTMENT OF AGRICULTURE

Forest Service

Notice of Resource Advisory Committee Meeting

AGENCY: North Central Idaho Resource Advisory Committee, Grangeville, Idaho, USDA, Forest Service.

ACTION: Notice of meeting.

SUMMARY: Pursuant to the authorities in the Federal Advisory Committee Act (Pub. L. 92-463) and under the Secure Rural Schools and Community Self-Determination Act of 2000 (Pub. L. 110-343) the Nez Perce and Clearwater National Forests' North Central Idaho Resource Advisory Committee will meet Thursday, June 25th, 2009 in Orofino, Idaho for a business meeting. The meeting is open to the public.

SUPPLEMENTARY INFORMATION: The business meeting on June 25th will be held at the Clearwater National Forest Supervisor's Office in Orofino, Idaho, beginning at 10 a.m. (PST). Agenda topic will be discussion and approval of potential projects. A public forum will begin at 3:15 p.m. (PST).

FOR FURTHER INFORMATION CONTACT: Laura A. Smith, Public Affairs Officer and Designated Federal Officer, at (208) 983-5143.

Dated: May 18, 2008.
Thomas K. Reilly,
Forest Supervisor.

[FR Doc. E9-12038 Filed 5-22-09; 8:45 am]

BILLING CODE 3410-11-M